FEDERAL COMMUNICATIONS COMMISSION

Notice of Public Information Collection(s) Being Reviewed by the Federal Communications Commission, Comments Requested

March 7, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before May 18, 2001. If you anticipate that you will be submitting comments, but find it difficult to do so within the period of time allowed by this notice, you should advise the contact listed below as soon as possible.

ADDRESSES: Direct all comments to Judy Boley, Federal Communications Commission, Room 1-C804, 445 12th Street, SW., Washington, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0411.

Title: Procedures for Formal Complaints Filed Against Common Carriers.

Form No.: FCC Form 485.

Type of Review: Revision of currently approved collection.

Respondents: Individuals or households, business or other for-profit, not-for-profit institutions, state, local or tribal governments.

Number of Respondents: 760.

Estimated Time Per Response: .50-20 hours.

Frequency of Response: On occasion reporting requirement, recordkeeping requirement, third party disclosure requirement and other reporting requirements.

Total Annual Burden: 15,436 hours.

Total Annual Cost: $165.00 per respondent or a total annual estimated cost of $125,400.

Needs and Uses: The Order on Reconsideration addresses several petitions for reconsideration and/or clarification of our rules that amended the procedures governing complaints filed against common carriers. In the First Report and Order, the Commission adopted rules designed, inter alia, to expedite the resolution of formal complaints filed against common carriers pursuant to Section 208 of the Act, and in the Second Report and Order, adopted the Accelerated Docket rules. The Order on Reconsideration also modifies specific rules governing pre-filing letters, answers, replies, payment verification requirements, and supplemental complaints for damages. The information will be used by Commission staff to determine the sufficiency of complaints and to resolve the merits of disputes between the parties.

OMB Control No.: 3060-0655.

Title: Requests for Waivers of Regulatory Fees Predicated on Allegations of Financial Hardship, MD Docket No. 94-19.

Form No.: N/A.

Type of Review: Revision of currently approved collection.

Respondents: Individuals or households and business or other for-profit.

Number of Respondents: 240.

Estimated Time Per Response: 1 hour.

Frequency of Response: On occasion reporting requirement, recordkeeping requirement.

Total Annual Burden: 240 hours.

Total Annual Cost: $3,200.

Needs and Uses: This information collection has been revised to include Section 8 waiver requests. Section 9 of the Communications Act of 1934, authorizes the FCC to assess and collect annual regulatory fees to recover costs incurred in carrying out its enforcement, policy and rulemaking activities and its user information services. Licensees and permittees may request waiver of those fees. A number of requests for waivers are based on grounds of financial hardship but lack sufficient documentation to support a finding that a waiver should be granted. As a result, the FCC set forth the types of documentation that it will rely on to determine if waivers should be granted because of financial hardship, in order to give guidance to parties requesting waivers. Where parties have filed insufficient information with their waiver requests, the Commission will afford them the opportunity to perfect their waiver requests by making a showing set forth in MD Docket 94-19.

OMB Control No.: 3060-0108.

Title: Emergency Alert System, EAS Activation Report.

Form No.: FCC Form 201.

Type of Review: Extension of currently approved collection.

Respondents: Business or other for-profit, not-for-profit institutions, state, local or tribal governments.

Number of Respondents: 1,300.

Estimated Time Per Response: .084 hours.

Frequency of Response: On occasion reporting requirement.

Total Annual Burden: 109 hours.

Total Annual Cost: N/A.

Needs and Uses: The Emergency Alert System (EAS) Activation Report postcard was developed as part of the EAS planning program. The program is a tri-agency agreement between the FCC, the NOAA National Weather Service, and the Federal Emergency Management Agency (FEMA). The National Advisory Committee recommended this postcard for use in the program.

The postcard allows the three agencies to assess the success of the program and identify the areas of the country that need further assistance in developing their local EAS plan.

OMB Control No.: 3060-0589.

Title: FCC Remittance Advice and Continuation Sheet.

Form No.: FCC Form 159 and 159-C.

Type of Review: Revision of currently approved collection.

Respondents: Individuals or households, business or other for-profit, not-for-profit institutions, state, local or tribal governments.

Number of Respondents: 635,738.

Estimated Time Per Response: .50 hours.

Frequency of Response: On occasion reporting requirement, third party disclosure requirement.

Total Annual Burden: 317,869 hours.

Total Annual Cost: N/A.

Needs and Uses: This form is being revised to include Facility Identification Number (FAC ID). This form is required for payment of regulatory fees, and for use when paying for multiple filings with a single payment instrument, or when paying by credit card. This form requires specific information to track payment history, and to facilitate the efficient and expeditious processing of collections by a lockbox bank.

The information will be used by the FCC for the purpose of collecting reporting any delinquent amounts arising of such person's relationship with the government.

Federal Communications Commission.
Magalie Roman Salas,
Secretary.

[FR Doc. 01-6635 Filed 3-16-01; 8:45 am]

BILLING CODE 6712-01-P